DEPARTMENT OF JUSTICE

[AAG/A Order No. 007-2003]

Privacy Act of 1974; System of Records

Correction

In notice document 03-2253 beginning on page 5048 in the issue of Friday, January 31, 2003, make the following correction:

On page 5048, in the second column, in the ninth line from the bottom, “agencyorganizationtask force” should read, “agency/organization/task force”.

[FR Doc. C3-2253 Filed 2-7-03; 8:45 am]

BILLING CODE 1505-01-D

DEPARTMENT OF THE TREASURY

Office of Thrift Supervision

Proposed Agency Information Collection Activities; Comment Request—Thrift Financial Report

Correction

In notice document 03-1448 beginning on page 3318 in the issue of Thursday, January 23, 2003 make the following correction:

On page 3323, in the second column, in the heading “34. Reporting Frequency of Schedule ” should read “33. Reporting Frequency of Schedule ”.

[FR Doc. C3-1448 Filed 2-7-03; 8:45 am]

BILLING CODE 1505-01-